DEPARTMENT OF THE INTERIOR

Fish and Wildlife Service

Conference of the Parties to the Convention on International Trade in Endangered Species of Wild Fauna and Flora (CITES); Thirteenth Regular Meeting; Provisional Agenda; Announcement of Public Meeting

AGENCY: Fish and Wildlife Service, Interior.

ACTION: Notice.

SUMMARY: The United States, as a Party to the Convention on International Trade in Endangered Species of Wild Fauna and Flora (CITES), will attend the thirteenth regular meeting of the Conference of the Parties to CITES (COP13) in Bangkok, Thailand, October 2-14, 2004. Currently, the United States is developing its negotiating positions on proposed resolutions, proposed decisions, proposed amendments to the CITES Appendices (species proposals), and other agenda items that were submitted by other Party countries and the CITES Secretariat for consideration at COP13. With this notice we announce the provisional agenda for COP13, solicit your comments on the items on the provisional agenda, and announce a public meeting to discuss the items on the provisional agenda.

DATES: The public meeting will be held on August 12, 2004, at 1:30 p.m. In developing the U.S. negotiating positions on proposed resolutions, proposed decisions, species proposals, and other agenda items submitted by other Party countries and the CITES Secretariat for consideration at COP13, we will consider written information and comments you submit if we receive them by August 31, 2004.

ADDRESSES:

Public Meeting

The public meeting will be held in the Rachel Carson Room, in the Department of the Interior at 18th and C Streets, NW., Washington, DC. Directions to the building can be obtained by contacting the Division of Management Authority (see FOR FURTHER INFORMATION CONTACT, below).

Comment Submission

Comments pertaining to proposed resolutions, proposed decisions, and agenda items other than those related to species proposals should be sent to the Division of Management Authority; U.S. Fish and Wildlife Service; 4401 North Fairfax Drive; Room 700; Arlington, VA 22203; or via E-mail at: citescop13@fws.gov; or via fax at: 703-358-2298. Comments pertaining to species proposals should be sent to the Division of Scientific Authority; U.S. Fish and Wildlife Service; 4401 North Fairfax Drive; Room 750; Arlington, VA 22203; or via E-mail at: scientificauthority@fws.gov; or via fax at: 703-358-2276. Comments and materials received will be available for public inspection, by appointment, from 8 a.m. to 4 p.m., Monday through Friday, at either the Division of Management Authority or the Division of Scientific Authority.

FOR FURTHER INFORMATION CONTACT: For information pertaining to resolutions, decisions, and agenda items other than those related to species proposals: Peter O. Thomas, Chief, Division of Management Authority; phone: 703-358-2095; fax: 703-358-2298; E-mail: citescop13@fws.gov. For information pertaining to species proposals: Robert R. Gabel, Chief, Division of Scientific Authority; phone: 703-358-1708; fax: 703-358-2276; E-mail: scientificauthority@fws.gov.

SUPPLEMENTARY INFORMATION:

Background

The Convention on International Trade in Endangered Species of Wild Fauna and Flora, hereinafter referred to as CITES or the Convention, is an international treaty designed to control and regulate international trade in certain animal and plant species that are now or potentially may be threatened with extinction due to trade. These species are listed in Appendices to CITES, which are available on the CITES Secretariat's Web site at http://www.cites.org/eng/append/index.shtml. Currently, 166 countries, including the United States, are Parties to CITES. The Convention calls for biennial meetings of the Conference of the Parties, which reviews its implementation, makes provisions enabling the CITES Secretariat in Switzerland to carry out its functions, considers amendments to the list of species in Appendices I and II, considers reports presented by the Secretariat, and makes recommendations for the improved effectiveness of CITES. Any country that is a Party to CITES may propose amendments to Appendices I and II, resolutions, decisions, and/or agenda items for consideration by all the Parties.

This is our third in a series of Federal Register notices that, together with announced public meetings, provide you with an opportunity to participate in the development of the U.S. negotiating positions for the thirteenth regular meeting of the Conference of the Parties to CITES (COP13). We published our first such Federal Register notice on June 19, 2003 (68 FR 36831), and with it we requested information and recommendations on species proposals, proposed resolutions, proposed decisions, and other agenda items for the United States to consider submitting for consideration at COP13. We published our second such Federal Register notice on January 12, 2004 (69 FR 1757), and with it we requested information and recommendations on species proposals, proposed resolutions, proposed decisions, and other agenda items that the United States was considering submitting for consideration at COP13. You may obtain information on the above Federal Register notices from the following sources: for information on proposed resolutions, proposed decisions, and agenda items other than those related to species proposals, contact the Division of Management Authority at the above address; and for information on species proposals, contact the Division of Scientific Authority at the above address. On May 5, 2004, the United States submitted to the CITES Secretariat, for consideration at COP13, its species proposals, proposed resolutions, proposed decisions, and other agenda items. These documents are available on our Web site at: http://international.fws.gov/cop%2013/cop13.htm. You may locate our regulations governing this public process in 50 CFR 23.31-23.39.

COP13 is scheduled to be held in Bangkok, Thailand, October 2-14, 2004.

Announcement of Provisional Agenda for COP13

The provisional agenda for COP13 is currently available on the CITES Secretariat's Web site at http://www.cites.org/eng/cop/13/docs/index.shtml. The working documents associated with the items on the provisional agenda, such as proposed resolutions, proposed decisions, and discussion documents, are also available on the Secretariat's Web site. To view the working document associated with a particular agenda item, access the provisional agenda at the above Web site, locate the particular agenda item, and click on the document link for that agenda item in the column entitled “Document.” Finally, the species proposals that will be considered on the agenda are available on the Secretariat's Web site at http://www.cites.org/eng/cop/13/props/index.shtml. We look forward to receiving your comments on the items on the provisional agenda.

Announcement of Public Meeting

We announce that we will hold a public meeting to discuss with you the items on the provisional agenda for COP13. The public meeting will be held on August 12, 2004, from 1:30 p.m. to 4:30 p.m. in the Rachel Carson Room of the Department of the Interior at 18th and C Streets, NW., Washington, DC. You can obtain directions to the building by contacting the Division of Management Authority (see FOR FURTHER INFORMATION CONTACT, above). The Rachel Carson Room is accessible to the handicapped. Persons planning to attend the meeting who require interpretation for the hearing impaired should notify the Division of Management Authority as soon as possible. All persons planning to attend the meeting will be required to present photo identification when entering the building, and must enter through the C Street entrance.

Future Actions

Through an additional notice and Website posting in advance of COP13, we will inform you about tentative U.S. negotiating positions on proposed resolutions, proposed decisions, species proposals, and other agenda items that were submitted by other Party countries and the CITES Secretariat for consideration at COP13.

Author: The primary author of this notice is Mark Albert, Division of Management Authority; under the authority of the U.S. Endangered Species Act of 1973, as amended (16 U.S.C. 1531 et seq.).

Dated: June 9, 2004.
Marshall P. Jones, Jr.,
Deputy Director.

[FR Doc. 04-15073 Filed 7-1-04; 8:45 am]

BILLING CODE 4310-55-P